DEPARTMENT OF THE TREASURY

Alcohol and Tobacco Tax and Trade Bureau

27 CFR Parts 17, 19, 24, 25, 26, 27, 31, 70, and 194

[T.D. TTB-25]

RIN 1513-AA19

Liquor Dealers; Recodification of Regulations; Administrative Changes Due to the Homeland Security Act of 2002 (2004R-258T)

AGENCY: Alcohol and Tobacco Tax and Trade Bureau, Treasury.

ACTION: Final rule; Treasury decision.

SUMMARY: The Alcohol and Tobacco Tax and Trade Bureau (TTB) is recodifying its regulations pertaining to liquor dealers. We are also making administrative changes to these regulations to reflect TTB's new name and organizational structure resulting from changes made by the Homeland Security Act of 2002. This document does not include any substantive regulatory changes.

DATES: This rule is effective on April 15, 2005.

FOR FURTHER INFORMATION CONTACT: Karl O. Joedicke, Regulations and Procedures Division, Alcohol and Tobacco Tax and Trade Bureau, 1310 G Street, NW., Washington, DC 20220; telephone 202-927-8210; or e-mail Karl.Joedicke@ttb.gov.

SUPPLEMENTARY INFORMATION:

Background

As a part of its continuing efforts to reorganize chapter I of title 27 of the Code of Federal Regulations (27 CFR chapter I), the Alcohol and Tobacco Tax and Trade Bureau (TTB) is removing all of part 194, Liquor Dealers, from subchapter M, Alcohol, Tobacco, and Other Excise Taxes, and recodifying it as part 31 in subchapter A, Liquors. We are also revising the title of new part 31 to read “Alcohol Beverage Dealers.” These changes improve the organization of chapter I of title 27 and better describe the contents of newly designated part 31. The table below shows from which section of part 194 the requirements of part 31 are derived.

In addition, section 1111 of the Homeland Security Act of 2002 (Pub. L. 107-296, 116 Stat. 2135) divided the former Bureau of Alcohol, Tobacco, and Firearms (ATF), Department of the Treasury, into two separate agencies, the Bureau of Alcohol, Tobacco, Firearms and Explosives in the Department of Justice, and TTB, which remains in the Department of the Treasury. This reorganization requires us to amend each of the CFR parts under our jurisdiction to reflect our Bureau's new name and organizational structure. This document makes the appropriate administrative, nonsubstantive changes to the newly designated part 31.

Derivation Table for Part 31
The requirements of section | Are derived from section
Subpart A
31.1 | 194.1
31.2 | 194.2
31.3 | 194.3
31.4 | 194.4
Subpart B
31.11 | 194.11
Subpart C
31.21 | 194.21
31.22 | 194.22
31.23 | 194.23
31.24 | 194.24
31.25 | 194.25
31.26 | 194.26
31.27 | 194.27
31.28 | 194.28
31.29 | 194.29
31.30 | 194.30
31.31 | 194.31
31.32 | 194.32
31.33 | 194.33
31.34 | 194.34
31.35 | 194.35
Subpart D
31.41 | 194.41
31.42 | 194.42
Subpart E
31.51 | 194.51
31.52 | 194.52
31.53 | 194.53
31.54 | 194.54
31.55 | 194.55
31.56 | 194.56
31.57 | 194.57
31.58 | 194.58
31.59 | 194.59
Subpart F
31.71 | 194.71
31.72 | 194.72
Subpart G
31.91 | 194.91
31.92 | 194.92
31.93 | 194.93
31.94 | 194.94
Subpart H
31.101 | 194.101
31.102 | 194.102
31.103 | 194.103
31.104 | 194.104
31.104a | 194.104a
31.105 | 194.105
31.106 | 194.106
31.106a | 194.106a
31.107 | 194.107
31.109 | 194.109
31.110 | 194.110
31.111 | 194.111
Subpart I
31.121 | 194.121
31.121a | 194.121a
31.122 | 194.122
31.123 | 194.123
31.124 | 194.124
31.125 | 194.125
31.126 | 194.126
31.127 | 194.127
31.131 | 194.131
31.132 | 194.132
31.133 | 194.133
31.134 | 194.134
31.135 | 194.135
31.136 | 194.136
31.137 | 194.137
31.138 | 194.138
31.139 | 194.139
Subpart J
31.151 | 194.151
31.152 | 194.152
31.153 | 194.153
Subpart K
31.161 | 194.161
31.162 | 194.162
31.163 | 194.163
31.164 | 194.164
31.165 | 194.165
31.166 | 194.166
31.167 | 194.167
31.168 | 194.168
31.169 | 194.169
31.170 | 194.170
Subpart L
31.181 | 194.181
31.182 | 194.182
31.183 | 194.183
31.183a | 194.183a
31.184 | 194.184
31.185 | 194.185
31.186 | 194.186
31.187 | 194.187
31.187a | 194.187a
31.187b | 194.187b
31.188 | 194.188
31.189 | 194.189
31.190 | 194.190
31.191 | 194.191
31.192 | 194.192
31.193 | 194.193
Subpart M
31.201 | 194.201
31.202 | 194.202
31.203 | 194.203
Subpart N
31.211 | 194.211
Subpart O
31.221 | 194.221
31.222 | 194.222
31.223 | 194.223
31.224 | 194.224
31.225 | 194.225
31.226 | 194.226
31.227 | 194.227
31.228 | 194.228
31.229 | 194.229
31.230 | 194.230
31.231 | 194.231
31.232 | 194.232
31.233 | 194.233
31.234 | 194.234
31.235 | 194.235
31.236 | 194.236
31.237 | 194.237
31.238 | 194.238
31.239-31.241 [Reserved] | 194.239-194.241 [Reserved]
Subpart P [Reserved] | Subpart P [Reserved]
Subpart Q
31.261 | 194.261
31.262 | 194.262
31.263 | 194.263
31.264 | 194.264
Subpart R
31.271 | 194.271
31.272 | 194.272
Subpart S
31.281 | 194.281
31.283 | 194.283
Subpart T
31.291 | 194.291
31.292 | 194.292
31.293 | 194.293

Regulatory Flexibility Act

Because no notice of proposed rulemaking is required for this final rule under 5 U.S.C. 553, the provisions of the Regulatory Flexibility Act (5 U.S.C. 601 et seq.) do not apply.

Executive Order 12866

This final rule is not a significant regulatory action as defined in Executive Order 12866. Accordingly, this final rule is not subject to the requirements of this Executive Order.

Inapplicability of Prior Notice and Comment and Delayed Effective Date Requirements

Because this final rule merely makes organizational and technical or conforming nonsubstantive amendments to improve the layout of the regulations and to reflect the new name and organizational structure of TTB, no notice of proposed rulemaking and public comment period are required under 5 U.S.C. 553(b)(B). For the same reasons, this final rule is not subject to the delayed effective date requirement of 5 U.S.C. 553(d).

Drafting Information

The principal author of this document is Karl O. Joedicke, Regulations and Procedures Division, Alcohol and Tobacco Tax and Trade Bureau.

List of Subjects

27 CFR Part 17

Administrative practice and procedure, Claims, Cosmetics, Customs duties and inspection, Drugs, Excise taxes, Exports, Imports, Liquors, Packaging and containers, Puerto Rico, Reporting and recordkeeping requirements, Spices and flavorings, Surety bonds, Virgin Islands.

27 CFR Part 19

Caribbean Basin Initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 25

Beer, Claims, Electronic funds transfers, Excise taxes, Exports, Labeling, Packaging and containers, Reporting and recordkeeping requirements, Research, Surety bonds.

27 CFR Part 26

Alcohol and alcoholic beverages, Caribbean Basin initiative, Claims, Customs duties and inspection, Electronic funds transfers, Excise taxes, Packaging and containers, Puerto Rico, Reporting and recordkeeping requirements, Surety bonds, Virgin Islands, Warehouses.

27 CFR Part 27

Alcohol and alcoholic beverages, Beer, Cosmetics, Customs duties and inspection, Electronic funds transfers, Excise taxes, Imports, Labeling, Liquors, Packaging and containers, Reporting and recordkeeping requirements, Wine.

27 CFR Part 28

Aircraft, Alcohol and alcoholic beverages, Armed forces, Beer, Claims, Excise taxes, Exports, Foreign trade zones, Labeling, Liquors, Packaging and containers, Reporting and recordkeeping requirements, Surety bonds, Vessels, Warehouses, Wine.

27 CFR Part 31

Alcohol and alcoholic beverages, Claims, Excise taxes, Exports, Packaging and containers, Reporting and recordkeeping requirements.

27 CFR Part 70

Administrative practice and procedure, Claims, Excise taxes, Freedom of information, Law enforcement, Penalties, Reporting and recordkeeping requirements, Surety bonds.

27 CFR Part 194

Alcohol and alcoholic beverages, Claims, Excise taxes, Exports, Packaging and containers, Reporting and recordkeeping requirements.

Amendments to the Regulations

For the reasons stated in the preamble, TTB amends chapter I of title 27 of the Code of Federal Regulations as follows:

PART 17—DRAWBACK ON TAXPAID DISTILLED SPIRITS USED IN MANUFACTURING NONBEVERAGE PRODUCTS

1. The authority citation for 27 CFR part 17 continues to read as follows:

Authority: 26 U.S.C. 5010, 5131, 5134, 5143, 5146, 5206, 5273, 6011, 6065, 6091, 6109, 6151, 6402, 6511, 7011, 7213, 7652, 7805; 31 U.S.C. 9301, 9303, 9304, 9306.

§ 17.187 [Amended]

2. Amend § 17.187 by removing the reference “part 194” and adding, in its place, a reference to “part 31”.

PART 19—DISTILLED SPIRITS PLANTS

3. The authority citation for 27 CFR part 19 continues to read as follows:

Authority: 19 U.S.C. 81c, 1311; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3 [Amended]

4. Amend § 19.3 by removing the reference to “27 CFR part 194—Liquor Dealers” and adding, in appropriate part number order, a reference to “27 CFR part 31—Alcohol Beverage Dealers”.

§§ 19.49 and 19.634 [Amended]

5. Amend the sections listed above as follows:

Amend | By removing the reference to | And adding in its place
§ 19.49(b)(1) | Part 194 | Part 31.
§ 19.634 | 27 CFR 194.263 | 27 CFR 31.263.

PART 24—WINE

6. The authority citation for 27 CFR part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

§ 24.4 [Amended]

7. Amend § 24.4 by removing the reference to “27 CFR Part 194—Liquor Dealers” and adding, in appropriate part number order, a reference to “27 CFR Part 31—Alcohol Beverage Dealers”.

§ 24.52 [Amended]

8. Amend § 24.52(d) by removing the reference to “part 194” and adding, in its place, a reference to “part 31”.

PART 25—BEER

9. The authority citation for 27 CFR part 25 continues to read as follows:

Authority: 19 U.S.C. 81c; 26 U.S.C. 5002, 5051-5054, 5056, 5061, 5091, 5111, 5113, 5142, 5143, 5146, 5222, 5401-5403, 5411-5417, 5551, 5552, 5555, 5556, 5671, 5673, 5684, 6011, 6061, 6065, 6091, 6109, 6151, 6301, 6302, 6311, 6313, 6402, 6651, 6656, 6676, 6806, 7011, 7342, 7606, 7805; 31 U.S.C. 9301, 9303-9308.

§§ 25.24 and 25.112 [Amended]

10. Amend the sections listed above as follows:

Amend | By removing the reference to | And adding in its place
§ 25.24(a)(2) | Part 194 | Part 31.
§ 25.24(a)(6) | Part 194 | Part 31.
§ 25.112 | Part 194 | Part 31.

PART 26—LIQUORS AND ARTICLES FROM PUERTO RICO AND THE VIRGIN ISLANDS

11. The authority citation for 27 CFR part 26 continues to read as follows:

Authority: 19 U.S.C. 81c; 26 U.S.C. 5001, 5007, 5008, 5010, 5041, 5051, 5061, 5081, 5111, 5112, 5114, 5121, 5122, 5124, 5131-5134, 5141, 5146, 5207, 5232, 5271, 5276, 5301, 5314, 5555, 6001, 6301, 6302, 6804, 7101, 7102, 7651, 7652, 7805; 27 U.S.C. 203, 205; 31 U.S.C. 9301, 9303, 9304, 9306.

§§ 26.44, 26.163, 26.210, 26.272, and 26.319 [Amended]

12. Amend the sections listed above as follows:

Amend | By removing the reference to | And adding in its place
§ 26.44 | Part 194 | Part 31.
§ 26.163 | Part 194 (“Liquor Dealers”) | Part 31.¹
§ 26.210 | Part 194 | Part 31.
§ 26.272 | Part 194 | Part 31.
§ 26.319 | § 194.263 | § 31.263.
¹ (“Alcohol Beverage Dealers”).

PART 27—IMPORTATION OF DISTILLED SPIRITS, WINES, AND BEER

13. The authority citation for 27 CFR part 27 continues to read as follows:

Authority: 5 U.S.C. 552(a); 19 U.S.C. 81c, 1202; 26 U.S.C. 5001, 5007, 5008, 5010, 5041, 5051, 5054, 5061, 5111, 5112, 5114, 5121, 5122, 5124, 5201, 5205, 5207, 5232, 5273, 5301, 5313, 5555, 6302, 7805.

§§ 27.30, 27.133, and 27.209 [Amended]

14. Amend the sections listed above as follows:

Amend | By removing the reference to | And adding in its place
§ 27.30, first sentence | Part 194 | Part 31.
§ 27.30, second sentence | Part 194 | Part 31.
§ 27.133 | Part 194 | Part 31.
§ 27.209 | § 194.263 | § 31.263.

PART 28—EXPORTATION OF ALCOHOL

15. The authority citation for 27 CFR part 28 continues to read as follows:

Authority: 5 U.S.C. 552(a); 19 U.S.C. 81c, 1202; 26 U.S.C. 5001, 5007, 5008, 5041, 5051, 5054, 5061, 5111, 5112, 5114, 5121, 5122, 5124, 5201, 5205, 5207, 5232, 5273, 5301, 5313, 5555, 6302, 7805; 27 U.S.C. 203, 205; 44 U.S.C. 3504(h).

§ 28.3 [Amended]

16. Amend § 28.3 by removing the reference to “27 CFR Part 194—Liquor Dealers” and adding, in appropriate part number order, a reference to “27 CFR Part 31—Alcohol Beverage Dealers”.

PART 70—PROCEDURE AND ADMINISTRATION

17. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§§ 70.411 and 70.414 [Amended]

18. Amend the sections listed above as follows:

Amend | By removing the reference to | And adding in its place
§ 70.411(c)(16) | Part 194 | Part 31.
§ 70.414(h) | Part 194 | Part 31.

PART 194—LIQUOR DEALERS

19. The authority citation for 27 CFR part 194 continues to read as follows:

Authority: 26 U.S.C. 5001, 5002, 5111-5114, 5116, 5117, 5121-5124, 5142, 5143, 5145, 5146, 5206, 5207, 5301, 5352, 5555, 5613, 5681, 5691, 6001, 6011, 6061, 6065, 6071, 6091, 6109, 6151, 6311, 6314, 6402, 6511, 6601, 6621, 6651, 6657, 7011, 7805.

PART 194—[REDESIGNATED AS PART 31]

20. Transfer 27 CFR part 194 from chapter I, subchapter M, to chapter I, subchapter A, and redesignate as 27 CFR part 31.

PART 31—LIQUOR DEALERS

21. The authority citation for the newly redesignated 27 CFR part 31 reads as follows:

Authority: 26 U.S.C. 5001, 5002, 5111-5114, 5116, 5117, 5121-5124, 5142, 5143, 5145, 5146, 5206, 5207, 5301, 5352, 5555, 5613, 5681, 5691, 6001, 6011, 6061, 6065, 6071, 6091, 6109, 6151, 6311, 6314, 6402, 6511, 6601, 6621, 6651, 6657, 7011, 7805.

PART 31-ALCOHOL BEVERAGE DEALERS

22. Revise the title of the newly designated part 31 to read as set forth above.

§ 31.1 [Amended]

23. Amend § 31.1 by removing the words “ATF officers” and adding, in their place, the words “TTB officers'.

§ 31.11 [Amended]

24. Amend § 31.11 as follows:

a. Add, in appropriate alphabetical order, a definition of “Administrator”.

b. Remove the definition of “ATF officer” and add, in its place, a definition of “Appropriate TTB officer”.

c. Remove the definition of “Director”.

d. In the definition of “Liquor bottle”, remove the word “Director” and add, in its place, the word “Administrator”.

e. Remove the definition of “Regional director (compliance)”.

The additions read as follows:

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part.

§ 31.41 [Amended]

25. Amend § 31.41 as follows:

a. In paragraph (a) remove word “Director” and add, in its place, the words “appropriate TTB officer”.

b. Revise paragraph (b) to read as follows:

§ 31.41 Forms prescribed.

* * * * *

(b) Forms prescribed by this part are available for printing through the TTB Web site (http://www.ttb.gov/) or by mailing a request to the Alcohol and Tobacco Tax and Trade Bureau, National Revenue Center, 550 Main Street, Room 1516, Cincinnati, OH 45202.

§§ 31.4, 31.21, 31.23, 31.24, 31.25, 31.26, 31.29, 31.42, 31.51, 31.54, 31.55, 31.56, 31.71, 31.72, 31.94, 31.104, 31.104a, 31.105, 31.106, 31.107, 31.109, 31.110, 31.111, 31.121a, 31.123, 31.124, 31.125, 31.126, 31.127, 31.131, 31.132, 31.133, 31.134, 31.135, 31.136, 31.137, 31.138, 31.139, 31.151, 31.152, 31.153, 31.161, 31.169, and 31.170 [Amended]

26. Amend the sections listed above as follows:

Amend | By removing the reference to | And adding in its place
§ 31.4 | § 194.1 | § 31.1.
§ 31.21 | § 194.23 | § 31.23.
§ 31.21 (two times) | § 194.26 | § 31.26.
§ 31.23(a) | § 194.101 | § 31.101.
§ 31.23(b) | § 194.25 | § 31.25.
§ 31.23(b) | § 194.27 | § 31.27.
§ 31.23(b) | § 194.188 | § 31.188.
§ 31.23(b) | § 194.190 | § 31.190.
§ 31.23(b) | § 194.191(a) | § 31.191(a).
§ 31.23(c) | § 194.181 | § 31.181.
§ 31.23(c) | § 194.184 | § 31.184.
§ 31.23(c) | § 194.187 | § 31.187.
§ 31.23(c) | § 194.187a | § 31.187a.
§ 31.24(a) | § 194.101 | § 31.101.
§ 31.24(b) | § 194.26 | § 31.26.
§ 31.24(b) | § 194.188 | § 31.188.
§ 31.24(b) | § 194.190 | § 31.190.
§ 31.24(b) | § 194.192 | § 31.192.
§ 31.24(c) | § 194.181 | § 31.181.
§ 31.24(c) | § 194.184 | § 31.184.
§ 31.25(a) | § 194.101 | § 31.101.
§ 31.25(b) | § 194.27 | § 31.27.
§ 31.25(b) | § 194.188 | § 31.188.
§ 31.25(b) | § 194.189 | § 31.189.
§ 31.25(b) | § 194.191(a) | § 31.191(a).
§ 31.25(c) | § 194.181 | § 31.181.
§ 31.25(c) | § 194.184 | § 31.184.
§ 31.25(c) | § 194.187 | § 31.187.
§ 31.25(c) | § 194.187a | § 31.187a.
§ 31.26(a) | § 194.101 | § 31.101.
§ 31.26(b) | § 194.188 | § 31.188.
§ 31.26(b) | § 194.189 | § 31.189.
§ 31.26(b) | § 194.192 | § 31.192.
§ 31.26(b) | § 194.193 | § 31.193.
§ 31.26(c) | § 194.181 | § 31.181.
§ 31.26(c) | § 194.184 | § 31.184.
§ 31.29 | § 194.27 | § 31.27.
§ 31.42 | ATF | TTB.
§ 31.51 | § 194.31 | § 31.31.
§ 31.51 | § 194.181 | § 31.181.
§ 31.51 | § 194.193 | § 31.193.
§ 31.54 | § 194.185 | § 31.185.
§ 31.54 | § 194.186 | § 31.186.
§ 31.55(c) | ATF | TTB.
§ 31.56 (two times) | § 194.126 | § 31.126.
§ 31.56 (two times) | § 194.185 | § 31.185.
§ 31.56 (two times) | § 194.186 | § 31.186.
§ 31.71 | § 194.24 | § 31.24.
§ 31.71 | § 194.26 | § 31.26.
§ 31.72(b) (two times) | § 194.103(b) | § 31.103(b).
§ 31.94 | ATF | TTB.
§ 31.94 | § 194.169 | § 31.169.
§ 31.94 | § 194.170 | § 31.170.
§ 31.104 | § 194.106 | § 31.106.
§ 31.104a | ATF | TTB.
§ 31.105 | Bureau of Alcohol, Tobacco, and Firearms | Alcohol and Tobacco Tax and Trade Bureau.
§ 31.106(a) | ATF | TTB.
§ 31.106(b) (three times) | ATF | TTB.
§ 31.106(b) | § 194.106a | § 31.106a.
§ 31.106(c) (three times) | ATF | TTB.
§ 31.106(c) | § 194.237 | § 31.237.
§ 31.107 | ATF | TTB.
§ 31.109 (two times) | § 194.104 | § 31.104.
§ 31.110(b) | regional director (compliance) | appropriate TTB officer.
§ 31.111 | § 194.104 | § 31.104.
§ 31.111 | § 194.109 | § 31.109.
§ 31.111 | regional director (compliance) | appropriate TTB officer.
§ 31.121 | § 194.106(c) | § 31.106(c).
§ 31.121a | regional director (compliance) | appropriate TTB officer.
§ 31.121a | § 194.134 | § 31.134.
§ 31.121a | § 194.106 | § 31.106.
§ 31.121a | ATF | TTB.
§ 31.123 | Regional directors (compliance) | TTB officers.
§ 31.124 | § 194.106(b) | § 31.106(b).
§ 31.125 | § 194.126 | § 31.126.
§ 31.126 | § 194.106(b) | § 31.106(b).
§ 31.126 | ATF | TTB.
§ 31.126 | § 194.106(c) | § 31.106(c).
§ 31.127 | regional director (compliance) | appropriate TTB officer.
§ 31.131 | ATF | TTB.
§ 31.132 (two times) | regional director (compliance) | appropriate TTB officer.
§ 31.132 | § 194.131 | § 31.131.
§ 31.133 | regional director (compliance) | appropriate TTB officer.
§ 31.134 (four times) | regional director (compliance) | appropriate TTB officer.
§ 31.135 (two times) | ATF | TTB.
§ 31.135 | § 194.106 | § 31.106.
§ 31.135 | § 194.106(c) | § 31.106(c).
§ 31.135 | § 194.121a | § 31.121a.
§ 31.136 (two times) | ATF | TTB.
§ 31.136 (two times) | § 194.137 | § 31.137.
§ 31.136 (two times) | § 194.139 | § 31.139.
§ 31.137, section heading | ATF | TTB.
§ 31.137 | ATF | TTB.
§ 31.137 | § 194.136 | § 31.136.
§ 31.137 | regional director (compliance) | appropriate TTB officer.
§ 31.138 | ATF | TTB.
§ 31.139 (two times) | regional director (compliance) | appropriate TTB officer.
§ 31.139 | § 194.136 | § 31.136.
§ 31.139 | ATF | TTB.
§ 31.151(a) (six times) | ATF | TTB.
§ 31.151(a) | § 194.106(c) | § 31.106(c).
§ 31.151(a) | regional director (compliance) | appropriate TTB officer.
§ 31.151(b) | § 194.55(c) | § 31.55(c).
§ 31.152 | ATF | TTB.
§ 31.152 (two times) | § 194.109 | § 31.109.
§ 31.152 | § 194.103 | § 31.103.
§ 31.152 | § 194.110 | § 31.110.
§ 31.153 | § 194.132 | § 31.132.
§ 31.153 | § 194.133 | § 31.133.
§ 31.161 | § 194.169 | § 31.169.
§ 31.169 (five times) | ATF | TTB.
§ 31.169 | § 194.106(b) | § 31.106(b).
§ 31.169 | regional director (compliance) or other | appropriate.
§ 31.170 | § 194.169 | § 31.169.
§ 31.170 (two times) | § 194.109 | § 31.109.
§ 31.170 | § 194.103 | § 31.103.
§ 31.170 | § 194.110 | § 31.110.

§ 31.182 [Amended]

27. Amend § 31.182 as follows:

a. In paragraph (a), remove the words “regional director (compliance)”, and add, in their place, the words “appropriate TTB officer”.

b. In the second sentence of paragraph (b), remove the words “regional director (compliance) of the region in which the plant is located” and add, in their place, the words “appropriate TTB officer”.

c. In the fourth sentence of paragraph (b), remove the words “regional director (compliance)” and add, in their place, the words “appropriate TTB officer”.

§ 31.183 [Amended]

28. Amend § 31.183 as follows:

a. In the first sentence of paragraph (a), remove the words “regional director (compliance)” and add, in their place, the words “appropriate TTB officer”.

b. In the second sentence of paragraph (b), remove the words “regional director (compliance) of the region in which the bonded wine cellar is located” and add, in their place, the words “appropriate TTB officer”.

c. In the fourth sentence of paragraph (b), remove the words “regional director (compliance)” and add, in their place, the words “appropriate TTB officer”.

§ 31.183a [Amended]

29. Amend § 31.183a as follows:

a. In the first sentence of paragraph (a), remove the reference to “§ 194.103(b)” and add, in its place, “§ 31.103(b)”.

b. In the first sentence of paragraph (a), remove the words “regional director (compliance)” and add, in their place, the words “appropriate TTB officer”.

c. In the second sentence of paragraph (b), remove the words “regional director (compliance) of the region in which the taxpaid wine bottling house is located” and add, in their place, the words “appropriate TTB officer”.

d. In the fourth sentence of paragraph (b), remove the words “(regional director (compliance)” and add, in their place, the words “appropriate TTB officer”.

§ 31.184 [Amended]

30. Amend § 31.184 as follows:

a. In the first sentence of paragraph (a), remove the words “regional director (compliance)” and add, in their place, the words “appropriate TTB officer”.

b. In the second sentence of paragraph (b), remove the words “regional director (compliance) of the region in which the brewery is located” and add, in their place, the words “appropriate TTB officer”.

c. In the fourth sentence of paragraph (b), remove the words “regional director (compliance)” and add, in their place, the words “appropriate TTB officer.”

§§ 31.187a, 31.187b, and 31.193 [Amended]

31. Amend the sections listed above as follows:

Amend | By removing the reference to | And adding in its place
§ 31.187a | § 194.27 | § 31.27.
§ 31.187b | § 194.72 | § 31.72.
§ 31.193 | § 194.211 | § 31.211.
§ 31.193 | § 194.225 | § 31.225.
§ 31.193 | § 194.226 | § 31.226.
§ 31.193 | § 194.234 | § 31.234.

§ 31.201 [Amended]

32. Amend § 31.201 as follows:

a. In the second sentence, remove the words “regional director (compliance) serving the region in which the special tax was paid or assessed” and add, in their place, the words “appropriate TTB officer”.

b. In the third sentence, remove the words “Bureau of Alcohol, Tobacco and Firearms” and add, in their place, the words “Alcohol and Tobacco Tax and Trade Bureau”.

c. In the fourth sentence, remove the words “Bureau of Alcohol, Tobacco and Firearms” and add, in their place, the words “Alcohol and Tobacco Tax and Trade Bureau”.

§§ 31.211, 31.221, 31.222, 31.223, 31.227, and 31.228 [Amended]

33. Amend the sections listed above as follows:

Amend | By removing the reference to | And adding in its place
§ 31.211 | § 194.151 | § 31.151.
§ 31.211 | § 194.169 | § 31.169.
§ 31.211 | § 194.31 | § 31.31.
§ 31.211 | § 194.188 | § 31.188.
§ 31.211 | § 194.190 | § 31.190.
§ 31.211 | § 194.192 | § 31.192.
§ 31.211 | § 194.193 | § 31.193.
§ 31.221 | § 194.223 | § 31.223.
§ 31.221 | § 194.224 | § 31.224.
§ 31.221 | § 194.225 | § 31.225.
§ 31.221 | § 194.226 | § 31.226.
§ 31.221 | regional director (compliance) | appropriate TTB officer.
§ 31.221 | § 194.230 | § 31.230.
§ 31.222 | § 194.237 | § 31.237.
§ 31.222 | regional director (compliance) | appropriate TTB officer.
§ 31.223 | ATF | TTB.
§ 31.223 | regional director (compliance) | appropriate TTB officer.
§ 31.227 | § 194.225 | § 31.225.
§ 31.227 | § 194.226 | § 31.226.
§ 31.227 | § 194.235 | § 31.235.
§ 31.228 | regional director (compliance) | appropriate TTB officer.
§ 31.228 | § 194.225 | § 31.225.
§ 31.228 | § 194.226 | § 31.226.

§ 31.229 [Amended]

34. Amend § 31.229 as follows:

a. In the first sentence of paragraph (a), remove the word “Director” and add, in its place, the words “appropriate TTB officer”.

b. In the second sentence of paragraph (a), remove the words “, in triplicate, to the regional director (compliance)” and add, in their place, the words “to the appropriate TTB officer”.

c. In the fourth sentence of paragraph (a), remove the words “regional director (compliance)” and add, in their place, the words “appropriate TTB officer”.

d. Remove the fifth sentence of paragraph (a).

e. In the sixth sentence of paragraph (a), remove the word “Director” and add, in its place, the words “appropriate TTB officer.”

§§ 31.230, 31.232, 31.233, 31.234, 31.235, 31.236, 31.237, 31.262, 31.264, 31.271, 31.292, and 31.293 [Amended]

35. Amend the sections listed above as follows:

Amend | By removing the reference to | And adding in its place
§ 31.230(a) (three times) | regional director (compliance) | appropriate TTB officer.
§ 31.230(d) | regional director (compliance) | appropriate TTB officer.
§ 31.230(d) | ATF | TTB.
§ 31.230(d) | § 194.225 | § 31.225.
§ 31.230(d) | § 194.226 | § 31.226.
§ 31.232 | § 194.230 | § 31.230.
§ 31.233(a) | § 194.225 | § 31.225.
§ 31.233(a) (two times) | § 194.226 | § 31.226.
§ 31.233(a) | § 194.234 | § 31.234.
§ 31.233(b) | § 194.225 | § 31.225.
§ 31.233(b) | § 194.226 | § 31.226.
§ 31.233(c) | § 194.230 | § 31.230.
§ 31.234(a) | regional director (compliance) | appropriate TTB officer.
§ 31.234(a) | ATF | TTB.
§ 31.235 | § 194.225 | § 31.225.
§ 31.235 | § 194.226 | § 31.226.
§ 31.236 | § 194.230 | § 31.230.
§ 31.236 | regional director (compliance) | appropriate TB officer.
§ 31.236 | ATF | TTB.
§ 31.237 | ATF | TTB.
§ 31.237 | regional director (compliance) | appropriate TB officer.
§ 31.262 (two times) | § 194.261 | § 31.261.
§ 31.264 | § 194.293 | § 31.293.
§ 31.271(a) (two times) | regional director (compliance) | appropriate TTB officer.
§ 31.271(b) | ATF | TTB.
§ 31.271(b) | regional director (compliance) | appropriate TTB officer.
§ 31.271(c) (two times) | regional director (compliance) | appropriate TTB officer.
§ 31.271(c) | § 194.236 | § 31.236.
§ 31.271(c) | § 194.237 | § 31.237.
§ 31.292 | regional director (compliance) | appropriate TTB officer.
§ 31.293 | § 194.264 | § 31.264.

Signed: February 18, 2005.
John J. Manfreda,
Administrator.
Approved: March 1, 2005.
Timothy E. Skud,
Deputy Assistant Secretary (Tax, Trade, and Tariff Policy).

[FR Doc. 05-7583 Filed 4-14-05; 8:45 am]

BILLING CODE 4810-31-P